DEPARTMENT OF COMMERCE

Bureau of Economic Analysis

15 CFR Part 806

[Docket No. 110321207-1206-01 0691-AA78

Direct Investment Surveys: Alignment of Regulations With Current Practices

AGENCY: Bureau of Economic Analysis, Commerce.

ACTION: Notice of proposed rulemaking.

SUMMARY: The Bureau of Economic Analysis (BEA) proposes to amend its regulations related to direct investment surveys. Specifically, BEA proposes to eliminate reporting requirements for several direct investment surveys that are no longer necessary because the information is collected on other surveys of direct investment conducted by BEA. The surveys that would be eliminated from the regulations are: a survey of foreign direct investment in the U.S. seafood industry (BE-21), two schedules of expenditures for property, plant, and equipment of U.S. direct investment abroad (BE-133B and BE-133C), and two industry classification questionnaires (BE-507 and BE-607). In addition, BEA proposes to eliminate the reporting requirements for two surveys of new foreign direct investment in the United States (BE-13 and BE-14). BEA suspended collection of these surveys in 2009 in order to align its international survey program with available resources. BEA also proposes other minor revisions to its regulations to eliminate outdated information.

DATES: Comments on this proposed rule will receive consideration if submitted in writing on or before June 6, 2011.

ADDRESSES: You may submit comments, identified by RIN 0691-AA78, and referencing the agency name (Bureau of Economic Analysis), by any of the following methods:

• Federal eRulemaking Portal: http://www.regulations.gov. Follow the instructions for submitting comments. For agency, select “Commerce Department—all.”

• E-mail: David.Galler@bea.gov.

• Fax: Office of the Chief, Direct Investment Division, (202) 606-5318.

• Mail: Office of the Chief, Direct Investment Division, U.S. Department of Commerce, Bureau of Economic Analysis, BE-50, Washington, DC 20230.

• Hand Delivery/Courier: Office of the Chief, Direct Investment Division, U.S. Department of Commerce, Bureau of Economic Analysis, BE-50, Shipping and Receiving, Section M100, 1441 L Street, NW., Washington, DC 20005.

Written comments regarding the burden-hour estimates or other aspects of the collection-of-information requirements contained in the proposed rule should be sent both to BEA, through any of the methods above, and to the Office of Management and Budget, O.I.R.A., Paperwork Reduction Project 0608-0024, 0608-0030, 0608-0032, 0608-0035, and 0608-0050, Attention PRA Desk Officer for BEA, via e-mail at pbugg@omb.eop.gov, or by FAX at (202) 395-7245.

Public Inspection: All comments received are a part of the public record and will generally be posted to http://www.regulations.gov without change. All personal identifying information (for example, name, address, etc.) voluntarily submitted by the commentator may be publicly accessible. Do not submit confidential business information or otherwise sensitive or protected information. BEA will accept anonymous comments.

FOR FURTHER INFORMATION CONTACT: David H. Galler, Chief, Direct Investment Division (BE-50), Bureau of Economic Analysis, U.S. Department of Commerce, Washington, DC 20230; phone (202) 606-9835.

SUPPLEMENTARY INFORMATION: This proposed rule would amend 15 CFR part 806 by revising Sections 806.14, 806.15, and 806.18 to remove the reporting requirements for several direct investment surveys. The surveys are:

BE-13, Initial Report on a Foreign Person's Direct or Indirect Acquisition, Establishment, or Purchase of the Operating Assets, of a U.S. Business Enterprise, Including Real Estate

BE-14, Report by a U.S. Person Who Assists or Intervenes in the Acquisition of a U.S. Business Enterprise by, or Who Enters into a Joint Venture With, a Foreign Person

BE-21, Survey of Foreign Direct Investment in U.S. Business Enterprises Engaged in the Processing, Packaging, or Wholesale Distribution of Fish or Seafoods

BE-133B, Follow-up Schedule of Expenditures for Property, Plant, and Equipment of U.S. Direct Investment Abroad

BE-133C, Schedule of Expenditures for Property, Plant, and Equipment of U.S. Direct Investment Abroad

BE-507, Industry Classification Questionnaire

BE-607, Industry Classification Questionnaire

The Department of Commerce, as part of its continuing effort to reduce paperwork and respondent burden, invites the general public and other Federal agencies to comment on the cancellation of the reporting requirements for these surveys, consistent with the Paperwork Reduction Act of 1995.

BEA is proposing to remove the reporting requirements for the BE-13 and the BE-14 surveys which were suspended in 2009 in order to align its international survey program with available resources. The surveys had been used to collect identification information on the U.S. business being established or acquired and on the new foreign owner, information on the cost of the investment and source of funding, and limited financial and operating data for the newly established or acquired entity. The data had been used to measure the amount of new foreign direct investment in the United States and assess its impact on the U.S. economy. BEA continues to identify newly acquired or established U.S. affiliates of foreign investors and bring them into its international survey program through the BE-12, BE-15, and BE-605 surveys, which are the benchmark, annual, and quarterly surveys of foreign direct investment in the United States, respectively, but they are not separately identified in BEA's published statistics.

BEA is proposing to eliminate the regulations for the BE-21, BE-133B, BE-133C, BE-507, and BE-607 surveys since they have not been conducted in many years and are no longer necessary because the information is collected on other surveys of direct investment conducted by BEA.

In addition, BEA proposes other minor revisions to its regulations to eliminate outdated information. These revisions eliminate references to outdated information regarding BE-10 survey forms and inactive OMB control numbers.

Executive Order 12866

This proposed rule has been determined to be not significant for purposes of E.O. 12866.

Executive Order 13132

This proposed rule does not contain policies with Federalism implications as that term is defined in E.O. 13132.

Paperwork Reduction Act

The Office of Management and Budget (OMB) approvals under the Paperwork Reduction Act for the seven surveys that BEA is proposing to eliminate have expired. The information collection approval for the BE-13 and BE-14 (under OMB control number 0608-0035) expired on August 31, 2009; the BE-21 approval (OMB control number 0608-0050) expired September 30, 1983; the BE-133B and BE-133C (OMB control number 0608-0024) expired December 31, 1994; the BE-507 approval (OMB control number 0608-0032) expired April 30, 1997; and the BE-607 approval (OMB control number 0608-0030) expired on May 31, 1991.

Regulatory Flexibility Act

The Chief Counsel for Regulation, Department of Commerce, has certified to the Chief Counsel for Advocacy, Small Business Administration, under the provisions of the Regulatory Flexibility Act (5 U.S.C. 605(b)), that this proposed rulemaking, if adopted, will not have a significant economic impact on a substantial number of small entities. Entities that have foreign affiliates, that are at least ten percent foreign-owned, or that assisted or intervened in the acquisition of a U.S. business enterprise by a foreign person would have been subject to the reporting requirements that are proposed to be eliminated in this rulemaking. However, BEA does not currently collect data that enables BEA to determine how many of these entities would be considered “small” under the Small Business Administration's size standards. Although BEA does not know the number of small entities that would have been subject to the reporting requirements being eliminated by this rulemaking, BEA has determined that this action would not have a significant economic impact as this rule proposes to merely remove references to the surveys that are no longer in use. The collection of the BE-13 and BE-14 surveys was suspended in 2009, and the BE-21, BE-133B, BE-133C, BE-507, and BE-607 surveys have not been conducted in many years. In addition, the information collection approvals for these surveys have expired and are no longer part of the inventory of active collections of information maintained by the Office of Management and Budget. Because there would be no impact to small entities as a result of this change to the regulations, the Chief Counsel certified that this proposed rulemaking, if adopted, will not have a significant economic impact on a substantial number of small entities.

List of Subjects in 15 CFR Part 806

Economic statistics, Foreign investment in the United States, International transactions, Penalties, Reporting and recordkeeping requirements.

Dated: March 16, 2011.
J. Steven Landefeld,
Director, Bureau of Economic Analysis.

For reasons set forth in the preamble, BEA proposes to amend 15 CFR part 806 as follows:

PART 806—DIRECT INVESTMENT SURVEYS

1. The authority citation for 15 CFR part 806 continues to read as follows:

Authority: 5 U.S.C. 301; 22 U.S.C. 3101-3108; E.O. 11961 (3 CFR, 1977 Comp., p. 86), as amended by E.O. 12318 (3 CFR, 1981 Comp., p. 173), and E.O. 12518 (3 CFR, 1985 Comp., p. 348).

2. Amend § 806.14 to revise paragraphs (d), (f) and (g) to read as follows:

§ 806.14 U.S. direct investment abroad.

* * * * *

(d) Exemption levels. Exemption levels for individual report forms will normally be stated in terms of total assets, net sales or gross operating revenues excluding sales taxes, and net income after income taxes, whether positive or negative, although different or special criteria may be specified for a given report form. If any one of the three items exceeds the exemption level and if the statistical data requested in the report are applicable to the entity being reported, then a report must be filed. Since these items may not have to be reported on a given form, a U.S. Reporter claiming exemption from filing a given form must furnish a certification as to the levels of the items on which the exemption is based or must certify that the data requested are not applicable. The exemption-level tests shall be applied as outlined below.

(1) For quarterly report forms, as to the assets test reports are required beginning with the quarter in which total assets exceed the exemption level; as to the test for sales (revenues) and net income after income taxes, reports are required for each quarter of a year in which the annual amount of these items exceeds or can be expected to exceed, the exemption level. Quarterly reports for a year may be required retroactively when it is determined that the exemption level has been exceeded.

(2) For report forms requesting annual data after the close of the year in question, the test shall be whether any one of the three items exceeded the exemption level during that year.

If total assets, sales or net income exceed the exemption level in a given year, it is deemed that the exemption level will also be exceeded in the following year.

The number and title of each report form, its exemption level, and other reporting criteria, if any, pertaining to it, are given below.

* * * * *

(f) Annual report forms. (1) [Reserved.]

(2) [Reserved.]

(3) BE-11—Annual Survey of U.S. Direct Investment Abroad: A report, consisting of Form BE-11A and Form(s) BE-11B, BE-11C, BE-11D and/or BE-11E, is required of each U.S. Reporter that, at the end of the Reporter's fiscal year, had a foreign affiliate reportable on Form BE-11B, BE-11C, BE-11D or BE-11E. Forms required and the criteria for reporting on each are as follows:

(i) Form BE-11A (Report for U.S. Reporter) must be filed by each U.S. person having a foreign affiliate reportable on Form BE-11B, BE-11C, BE-11D or BE-11E. If the U.S. Reporter is a corporation, Form BE-11A is required to cover the fully consolidated U.S. domestic business enterprise.

(A) If for a U.S. Reporter any one of the following three items—total assets, sales or gross operating revenues excluding sales taxes, or net income after provision for U.S. income taxes—was greater than $300 million (positive or negative) at the end of, or for, the Reporter's fiscal year, the U.S. Reporter must file a complete Form BE-11A. It must also file a Form BE-11B, BE-11C, BE-11D or BE-11E, as applicable, for each nonexempt foreign affiliate.

(B) If for a U.S. Reporter no one of the three items listed in paragraph (f)(3)(i)(A) of this section was greater than $300 million (positive or negative) at the end of, or for, the Reporter's fiscal year, the U.S. Reporter is required to file on Form BE-11A only items 1 through 26 and Part IV. It must also file a Form BE-11B, BE-11C, BE-11D, or BE-11E as applicable, for each nonexempt foreign affiliate.

(ii) Forms BE-11B, BE-11C, BE-11D, and BE-11E (Report for Foreign Affiliate).

(A) Form BE-11B must be reported for each majority-owned foreign affiliate, whether held directly or indirectly, for which any one of the following three items—total assets, sales or gross operating revenues excluding sales taxes, or net income after provision for foreign income taxes—was greater than $60 million (positive or negative) at the end of, or for, the affiliate's fiscal year, unless the foreign affiliate is selected to be reported on Form BE-11E.

(B) Form BE-11C must be reported for each minority-owned foreign affiliate, whether held directly or indirectly, for which any one of the three items listed in paragraph (f)(3)(ii)(A) of this section was greater than $60 million (positive or negative) at the end of, or for, the affiliate's fiscal year.

(C) Form BE-11D must be reported for each majority- and minority-owned foreign affiliate, whether held directly or indirectly, established or acquired during the year for which any one of the three items listed in paragraph (f)(3)(ii)(A) of this section was greater than $25 million (positive or negative), but for which no one of these items was greater than $60 million (positive or negative), at the end of, or for, the affiliate's fiscal year. Form BE-11D is a schedule; a U.S. Reporter would submit one or more pages of the form depending on the number of affiliates that are required to be filed on this form.

(D) Form BE-11E must be reported for each foreign affiliate that is selected by BEA to be reported on this form in lieu of Form BE-11B. BEA statistically divides into panels, affiliates for which any one of the three items listed in paragraph (f)(3)(ii)(A) of this section was greater than $60 million (positive or negative), but for which no one of these items was greater than $300 million (positive or negative), at the end of, or for, the affiliate's fiscal year. At the direction of BEA, U.S. Reporters would alternate reporting these affiliates on Form BE-11B and Form BE-11E.

(iii) Based on the preceding, an affiliate is exempt from being reported if none of the three items listed in paragraph (f)(3)(ii)(A) of this section exceeds $60 million (positive or negative). However, affiliates that were established or acquired during the year and for which at least one of the items was greater than $25 million but not over $60 million must be listed, and key items reported, on schedule-type Form BE-11D.

(iv) Notwithstanding paragraph (f)(3)(iii) of this section, a Form BE-11B, BE-11C, or BE-11E must be filed for a foreign affiliate of the U.S. Reporter that owns another non-exempt foreign affiliate of that U.S. Reporter, even if the foreign affiliate parent is otherwise exempt. That is, all affiliates upward in the chain of ownership must be reported.

* * * * *

(g) Other report forms. (1) [Reserved.]

(2) BE-10-Benchmark Survey of U.S. Direct Investment Abroad: Section 4(b) of the Act (22 U.S.C. 3103) provides that a comprehensive benchmark survey of U.S. direct investment abroad will be conducted in 1982, 1989, and every fifth year thereafter. Exemption levels, specific requirements for, and the year of coverage of, a given BE-10 survey may be found in § 806.16.

* * * * *

3. Section 806.15(j) is revised to read as follows:

§ 806.15 Foreign direct investment in the United States.

* * * * *

(j) Other report forms. (1) [Reserved.]

(2) BE-12—Benchmark Survey of Foreign Direct Investment in the United States: Section 4b of the Act (22 U.S.C. 3103) provides that a comprehensive benchmark survey of foreign direct investment in the United States shall be conducted in 1980, 1987, and every fifth year thereafter. The survey is referred to as the “BE-12.” Exemption levels, specific requirements for, and the year of coverage of, a given BE-12 Survey may be found in § 806.17.

* * * * *

4. Section 806.18(b) is revised to read as follows:

§ 806.18 OMB control numbers assigned to the Paperwork Reduction Act.

* * * * *

(b) Display.

15 CFR section where identified and described | Current OMB Control No.
806.1 through 806.17 | 0608-0004
| 0009
| 0034
| 0042
| 0049
| 0053
* * * * *

[FR Doc. 2011-7769 Filed 4-6-11; 8:45 am]

BILLING CODE 3510-06-P